DEPARTMENT OF AGRICULTURE

Forest Service

Oregon Coast Provincial Advisory Committee

AGENCY: Forest Service, USDA.

ACTION: Notice of meeting.

SUMMARY: The Oregon Coast Province Advisory Committee will meet in Corvallis, OR, October 14, 2004. The theme of the meeting is Introduction/Overview/Business Planning. The agenda includes: PAC Subcommittee Updates, RiverPrize Update, Special Forest Products, 2005 Meeting Theme/Agenda/Dates, Public Comment and Round Robin.

DATES: The meeting will be held October 14, 2004, beginning at 9 a.m.

ADDRESSES: The meeting will be held at the Siuslaw National Forest Headquarters, 4077 SW. Research Way, Corvallis, Oregon, 97333.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council Discussion is limited to Forest Service/BLM staff and Council Members. Lunch will be on your own. A public input session will be at 2 p.m. for fifteen minutes. The meeting is expected to adjourn around 3 p.m.

Dated: September 29, 2004.
Michael A. Harvey,
Assistant Recreational Staff.

[FR Doc. 04-22341 Filed 10-4-04; 8:45 am]

BILLING CODE 3410-11-M